DEPARTMENT OF TRANSPORTATION

Federal Aviation Administration

Fifth Meeting: RTCA Special Committee (232) Airborne Selective Calling Equipment

AGENCY: Federal Aviation Administration (FAA), U.S. Department of Transportation (DOT).

ACTION: Notice of Fifth RTCA Special Committee 232 Meeting.

SUMMARY: The FAA is issuing this notice to advise the public of the Fifth RTCA Special Committee 232 meeting.

DATES: The meeting will be held November 10th-11th from 9:00 a.m.- 5:00 p.m.

ADDRESSES: The meeting will be held at RTCA, Inc., 1150 18th Street NW., Suite 910, Washington, DC 20036, Tel: (202) 330-0654.

FOR FURTHER INFORMATION CONTACT: The RTCA Secretariat, 1150 18th Street NW., Suite 910, Washington, DC 20036, or by telephone at (202) 833-9339, fax at (202) 833-9434, or Web site at http://www.rtca.org or Hal Moses, Program Director, RTCA, Inc., hmoses@rtca.org, (202) 330-0654.

SUPPLEMENTARY INFORMATION: Pursuant to section 10(a)(2) of the Federal Advisory Committee Act (Pub. L. 92-463, 5 U.S.C., App.), notice is hereby given for a meeting of RTCA Special Committee 232. The agenda will include the following:

Tuesday-Wednesday, November 10-11, 2015

1. Welcome/Introductions/Administrative Remarks

2. Agenda Overview

3. Review/Approval of Minutes from Plenary #4

4. Status of Other SELCAL Industry Activities/Committees

5. Review of Selective Calling (SELCAL) Action Items

6. Review SC-232 Completion Schedule

7. Review of Draft MOPS

8. Continue and Complete Drafting MOPS

9. Other Business

10. Date and Place of Next Meetings

11. Adjourn

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Issued in Washington, DC, on October 16, 2015.
Latasha Robinson,
Management & Program Analyst, Next Generation, Enterprise Support Services Division, Federal Aviation Administration.

[FR Doc. 2015-26863 Filed 10-21-15; 8:45 am]

BILLING CODE 4910-13-P